DEPARTMENT OF DEFENSE

Department of the Army

Announcement of Intent To Grant a Limited Field Exclusive License to the Interests of the U.S. Government in Certain Inventions Generated Through Efforts of the U.S. Army, and U.S. Patent Applications, and for Patents Based Thereon

AGENCY: U.S. Army Tank-automotive and Armaments Command—Armament Research Development and Engineering Center (TACOM-ARDEC), DoD.

ACTION: Notice.

SUMMARY: The Department of the Army announces, that unless there is objection, in fifteen days it will grant an Exclusive license to InvenCom LLC, 800 East Boulevard, Charlotte, NC 28203, limited to the field of application for any “Forcible Entry Apparatus” of the type that is placed in contact with the structure to be breached when utilizing the device, of the U.S. Government's interests in the following four inventions and in all patent applications and patents that result from or are based on same: (i) “Liquid Eject Propulsion Forcible Entry Device Power Supply” by Charles A. Mossey, et al., Army docket no. 2001-005; (ii) “Liquid Eject Propulsion Forcible Entry Device Firing Circuit” by Charles A. Mossey, et al., Army docket no. 2001-026; (iii) “Liquid Eject Propulsion Forcible Entry Device And Burst Disc Mechanism Thereof” by Charles A. Mossey, et al., Army docket no. 2001-027; and (iv) “Recoilless Impact Device” by Charles A. Mossey, et al., U.S. patent application number 09/710,073, filed on November 10, 2000 (Army docket no. 2001-028).

FOR FURTHER INFORMATION CONTACT: Mr. John Moran, Chief, Intellectual Property Law Division, AMSTA-AR-GCL, U.S. Army TACOM-ARDEC, Picatinny Arsenal, NJ 07806-5000, e-mail: jfmoran@pica.army.mil telephone (973) 724-6590.

SUPPLEMENTARY INFORMATION: Written objections must be filed on or before September 27, 2001.

Luz D. Ortiz,
Army Federal Register Liaison Officer.

[FR Doc. 01-22917 Filed 9-11-01; 8:45 am]

BILLING CODE 3710-08-M